DEPARTMENT OF DEFENSE

Office of the Secretary

[Docket ID: DoD-2015-OS-0089]

Proposed Collection; Comment Request

AGENCY: Pentagon Force Protection Agency, DoD.

ACTION: Notice.

SUMMARY: In compliance with the Paperwork Reduction Act of 1995, the Pentagon Force Protection Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 3, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Pentagon Force Protection Agency Project Integration Directorate (PFPA\PID), 9000 Defense Pentagon, Washington, DC 20301-9000, ATTN: PID, or email at PFPAHSPD-12@pfpa.mil.

SUPPLEMENTARY INFORMATION: Title; Associated Form; and OMB Number: Privilege Management Program (PMP); DD Form 2249A and Pentagon Tours Web site; OMB Control Number 0704-TBD.

Needs and Uses: The information collection requirement is necessary to facilitate background investigations and properly assign privileges to the customer utilized within the Pentagon Reservation and National Capital Region (NCR). The collection is also required to facilitate verification of background investigations for individuals applying for access to the Pentagon in connection with Pentagon Visitor Tours.

The Visitor & Parking Management feature of the Privilege Management Program (PMP—Access Control System) utilizes DD Form 2249A as evidence that the customer has been properly vetted and provides justification for access to the locations needed to perform their occupational duties. The information collection requirement is necessary to facilitate background investigations and properly assign physical access and parking privileges to the customer utilized within the Pentagon Reservation.

The Electronic Security System of the PMP is related to the Pentagon Tours feature of the PMP whereby the information is provided by the individual requesting the tour and is entered directly into the PFPA Web site.

PMP Visitor and Parking Management—Access Control System (DD Form 2249a)

Affected Public: Individuals or Households.

Annual Burden Hours: 2,208.

Number of respondents: 26,500.

Responses per Respondent: 1.

Annual Responses: 26,500.

Average Burden per Response: 5 minutes.

Frequency: On occasion.

PMP Electronic Security System: Pentagon Tours Web site

Affected Public: Individuals or Households.

Annual Burden Hours: 12,917.

Number of Respondents: 155,000.

Responses per Respondent: 1.

Annual Responses: 155,000.

Average Burden per Response: 5 minutes.

Frequency: On occasion.

PMP Combined Burden Estimates

Annual Burden Hours: 15,125.

Number of Respondents: 181,500.

Responses per Respondent: 1.

Annual Responses: 181,500.

Average Burden per Response: 5 minutes.

Frequency: On occasion.

Respondents are tenants and visitors who are provided identification badges, submit biometric attributes for collection, and/or have access privileges assigned. The PMP Access Control System is the authoritative system which integrates into American Magnetics System, AMAG, for the Pentagon, and SoftwareHouse C-Cure-9000 for the Mark Center and the Defense Health Headquarters.

The PMP Visitor Management & Parking Management Systems utilize the DD Form 2249A and records customer information to facilitate verification of background investigations for individuals applying for access and parking to DOD buildings in connection with their official duties. If DD Form 2249A is not completed by the customer at time of enrollment, the enrollment agent cannot issue credential(s). Having qualified agents provide credentialing and enrollment services is essential to maintaining daily operations and access rights to various installations throughout the NCR. The data are collected and stored in the PMP database at the time of enrollment.

Regarding the Pentagon tours Web site, respondents are visitors who wish to be conducted on a tour of the Pentagon. The Pentagon Visitor Tour Online Web site records customer information to facilitate verification of background investigations for individuals applying for access to Pentagon in connection with Pentagon Visitor Tours. If the online information is not presented by customers they will not be scheduled or allowed access into the Pentagon. The data are collected and stored in the PMP Electronic Security System Database at the time of tour scheduling.

Dated: September 1, 2015.
Aaron Siegel,
Alternate OSD Federal Register Liaison Officer, Department of Defense.

[FR Doc. 2015-22013 Filed 9-3-15; 8:45 am]

BILLING CODE 5001-06-P